DEPARTMENT OF HOMELAND SECURITY

Coast Guard

33 CFR Parts 100 and 165

[Docket No. USCG-2012-1036]

Safety Zones and Special Local Regulations; Recurring Marine Events in Captain of the Port Long Island Sound Zone

AGENCY: Coast Guard, DHS.

ACTION: Notice of enforcement of regulation.

SUMMARY: The Coast Guard will enforce one special local regulation for a boat race, 16 safety zones for fireworks displays and one safety zone for a swim event in the Sector Long Island Sound area of responsibility on the dates and times listed in the tables below. This action is necessary to provide for the safety of life on navigable waterways during the events. During the enforcement periods, no person or vessel may enter the regulated area or safety zones without permission of the Captain of the Port (COTP) Sector Long Island Sound or designated representative.

DATES: The regulations in 33 CFR 100.100 and 33 CFR 165.151 will be enforced during the dates and times as listed in the SUPPLEMENTARY INFORMATION section of this document.

FOR FURTHER INFORMATION CONTACT: If you have questions on this notice, call or email Petty Officer Ian Fallon, Waterways Management Division, U.S. Coast Guard Sector Long Island Sound; telephone 203-468-4565, email Ian.M.Fallon@uscg.mil.

SUPPLEMENTARY INFORMATION: The Coast Guard will enforce the special local regulation listed in 33 CFR 100.100 and the safety zones listed in 33 CFR 165.151 on the specified dates and times as indicated in the following Tables.

Table to § 100.100
| August
1.1 Harvard-Yale Regatta, Thames River, New London, CT | • Event type: Boat Race. • Date: June 7, 2015. • Time: 8:30 a.m. to 12:30 p.m.
| • Location: All waters of the Thames River at New London, Connecticut, between the Penn Central Draw Bridge 41°21′46.94″ N., 072°5′14.46″ W. to Bartlett Cove 41°25′ 35.9″ N., 072°5′42.89″ W. (NAD 83).
| • Additional stipulations: Spectator vessels must be at anchor within a designated spectator area or moored to a waterfront facility within the regulated area in such a way that they shall not interfere with the progress of the event at least 30 minutes prior to the start of the races. They must remain moored or at anchor until the men's varsity have passed their positions. At that time, spectator vessels located south of the Harvard Boathouse may proceed downriver at a reasonable speed. Vessels situated between the Harvard Boathouse and the finish line must remain stationary until both crews return safely to their boathouses. If for any reason the men's varsity crew race is postponed, spectator vessels will remain in position until notified by Coast Guard or regatta patrol personnel. The last 1000 feet of the race course near the finish line will be delineated by four temporary white buoys provided by the sponsor. All spectator craft shall remain behind these buoys during the event. Spectator craft shall not anchor: to the west of the race course, between Scotch Cap and Bartlett Point Light, or within the race course boundaries or in such a manner that would allow their vessel to drift or swing into the race course. During the effective period all vessels shall proceed at a speed not to exceed six knots in the regulated area. Spectator vessels shall not follow the crews during the races. Swimming is prohibited in the vicinity of the race course during the races. A vessel operating in the vicinity of the Submarine Base may not cause waves which result in damage to submarines or other vessels in the floating dry-docks.

Table 1 to § 165.151
6.2 Town of Branford Fireworks | • Date: June 27, 2015. • Rain Date: June 28, 2015.
| • Time: 9:00 p.m. to 10:30 p.m.
| • Location: Waters of Branford Harbor, Branford, CT in approximate position, 41°15′30″ N., 072°49′22″ W. (NAD 83).
6.3 Vietnam Veterans/Town of East Haven Fireworks | • Date: June 27, 2015. • Rain Date: June 29, 2015. • Time: 9:00 p.m. to 11:00 p.m.
| • Location: Waters off Cosey Beach, East Haven, CT in approximate position, 41°14′19″ N., 072°52′9.8″ W. (NAD 83).
7.1 Point O'Woods Fire Company Summer Fireworks | • Date: July 3, 2015. • Rain Date: July 5, 2015.
| • Time: 9:00 p.m. to 10:00 p.m.
| • Location: Waters of the Great South Bay, Point O'Woods, NY in approximate position 40°39′18.57″ N., 073°08′5.73″ W. (NAD 83).
7.4 Norwalk Fireworks | • Date: July 3, 2015.
| • Rain Date: July 5, 2015.
| • Time: 8:30 p.m. to 10:30 p.m.
| • Location: Waters off Calf Pasture Beach, Norwalk, CT in approximate position, 41°04′50″ N., 073°23′22″ W. (NAD 83).
7.5 Lawrence Beach Club Fireworks | • Date: July 3, 2015. • Rain Date: July 5, 2015.
| • Time: 9:00 p.m. to 10:30 p.m.
| • Location: Waters of the Atlantic Ocean off Lawrence Beach Club, Atlantic Beach, NY in approximate position 40°34′42.65″ N., 073°42′56.02″ W. (NAD 83).
7.6 Sag Harbor Fireworks | • Date: July 4, 2015.
| • Rain Date: July 5, 2015.
| • Time: 9:00 p.m. to 10:30 p.m.
| • Location: Waters of Sag Harbor Bay off Havens Beach, Sag Harbor, NY in approximate position 41°00′26″ N., 072°17′9″ W. (NAD 83).
7.7 South Hampton Fresh Air Home Fireworks | • Date: July 3, 2015. • Rain Date: July 5, 2015.
| • Time: 8:45 p.m. to 10:00 p.m.
| • Location: Waters of Shinnecock Bay, Southampton, NY in approximate positions, 40°51′48″ N., 072°26′30″ W. (NAD 83).
7.18 Independence Day Celebration Fireworks | • Date: July 4, 2015. • Rain Date: July 5, 2015.
| • Time: 8:30 p.m. to 10:00 p.m.
| • Location: Waters off of Umbrella Beach, Montauk, NY in approximate position 41°01′44″ N., 071°57′13″ W. (NAD 83).
7.27 City of Long Beach Fireworks | • Date: July 10, 2015. • Rain Date: July 11, 2015.
| • Time: 8:30 p.m. to 10:00 p.m.
| • Location: Waters off Riverside Blvd, City of Long Beach, NY in approximate position 40°34′38.77″ N., 073°39′41.32″ W. (NAD 83).
7.33 Groton Long Point Yacht Club Fireworks | • Date: July 18, 2015. • Rain Date: July 19, 2015.
| • Time: 9:00 p.m. to 10:30 p.m.
| • Location: Waters of Long Island Sound, Groton, CT in approximate position 40°59′41.40″ N., 072°06′08.70″ W. (NAD 83).
7.34 Devon Yacht Club Fireworks | • Date: July 4, 2015. • Rain Date: July 5, 2015.
| • Time: 8:45 p.m. to 10:00 p.m.
| • Location: Waters of Napeague Bay, in Block Island Sound off Amagansett, NY in approximate position 40°59′41.40″ N., 072°06′08.70″ W. (NAD 83).
7.40 Rowayton Fireworks | • Date: July 4, 2015.
| • Rain Date: July 5, 2015.
| • Time: 9:00 p.m. to 11:00 p.m.
| • Location: Waters of Long Island Sound south of Bayley Beach Park in Rowayton, CT in approximate position 41°03′11″ N., 073°26′41″ W. (NAD 83).
7.42 Connetquot River Summer Fireworks | • Date: July 2, 2015.
| • Rain Date: July 3, 2015.
| • Time: 8:45 p.m. to 9:55 p.m.
| • Location: Waters of the Connetquot River off Snapper Inn Restaurant, Oakdale, NY in approximate position 40°43′32.38″ N., 073°9′02.64″ W. (NAD 83).
8.4 Town of Babylon Fireworks | • Date: August 22, 2015.
| • Rain Date: August 23, 2015.
| • Time: 8:30 p.m. to 10:00 p.m.
| • Location: Waters off of Cedar Beach Town Park, Babylon, NY in approximate position 40°37′53″ N., 073°20′12″ W. (NAD 83).
9.1 East Hampton Fire Department Fireworks | • Date: August 29, 2015. • Rain Date: August 30, 2015.
| • Time: 8:45 p.m. to 10:15 p.m.
| • Location: Waters off Main Beach, East Hampton, NY in approximate position 40°56′40.28″ N., 072°11′21.26″ W. (NAD 83).
9.4 The Creek Fireworks | • Date: September 5, 2015.
| • Rain Date: September 6, 2015.
| • Time: 7:45 p.m. to 9:15 p.m.
| • Location: Waters of Long Island Sound off the Creek Golf Course, Lattingtown, NY in approximate position 40°54′13″ N., 073°35′58″ W. W. (NAD 83).

Table 2 to § 165.151
1.6 Swim Across America Greenwich | • Date: June 27, 2015.
| • Time: 5:30 a.m. to 10:30 a.m.
| • Location: All navigable waters of Stamford Harbor within a half mile long and 1,000 foot wide polygon shaped box stretching from Dolphin Cove to Rocky Point between Stamford and Greenwich, CT. Formed by connecting the following points. Beginning at point (A) 41°01′32.03″ N., 073°33′8.93″ W., then south east to point (B) 41°01′ 15.01″ N., 073°32′55.58″ W.; then south west to point (C) 41°00′49.25 N., 073°33′ 20.36″ W.; then north west to point (D) 41°00′58.00″ N., 073°33′27.00″ W., then north east to point (E) 41°01′15.80″ N., 073°33′09.85″ W., then heading north and ending at point (A) (NAD 83).

Under the provisions of 33 CFR 100.100 and 33 CFR 165.151, the regatta, fireworks displays and swim event listed above are established as a special local regulation or safety zone. Under the provisions of 33 CFR 100.100 and 165.151, vessels may not enter the regulated area unless given permission from the COTP or a designated representative. Spectator vessels may transit outside the safety zones but may not anchor, block, loiter in, or impede the transit of other vessels. The Coast Guard may be assisted by other Federal, State, or local law enforcement agencies in enforcing this regulation.

This notice is issued under authority of 33 CFR 100, 33 CFR 165 and 5 U.S.C. 552 (a). In addition to this notice in the Federal Register, the Coast Guard will provide the maritime community with advance notification of this enforcement period via the Local Notice to Mariners or marine information broadcasts. If the COTP determines that the regulated area need not be enforced for the full duration stated in this notice, a Broadcast Notice to Mariners may be used to grant general permission to enter the regulated area.

Dated: May 7, 2015.
E.J. Cubanski, III,
Captain, U.S. Coast Guard, Captain of the Port Sector Long Island Sound.

[FR Doc. 2015-12103 Filed 5-18-15; 8:45 am]

BILLING CODE 9110-04-P